POSTAL SERVICE BOARD OF GOVERNORS

Sunshine Act Meeting

Board Votes To Close August 6, 2001, Meeting

At its meeting on July 9, 2001, the Board of Governors of the United States Postal Service voted unanimously to close to public observation its meeting scheduled for August 6, 2001, in Washington, DC.

MATTERS TO BE CONSIDERED: 1. Pay for Performance Program.

2. Financial Performance.

3. Rate Case Briefing.

4. Personnel Matters and Compensation Issues.

Persons expected to attend: Governors Ballard, Daniels, del Junco, Dyhrkopp, Fineman, Kessler, McWherter, Rider and Walsh; Postmaster General Potter, Deputy Postmaster General Nolan, Secretary to the Board Hunter, and General Counsel Gibbons.

General Counsel certification: The General Counsel of the United States Postal Service has certified that the meeting may be closed under the Government in the Sunshine Act.

CONTACT PERSON FOR MORE INFORMATION: Requests for information about the meeting should be addressed to the Secretary of the Board, David G. Hunter, at (202) 268-4800.

David G. Hunter,
Secretary.

[FR Doc. 01-18550 Filed 7-20-01; 2:20 pm]

BILLING CODE 7710-12-M